OFFICE OF SCIENCE AND TECHNOLOGY POLICY

Joint Subcommittee on Ocean Science and Technology, Committee on Environment and Natural Resources, National Science and Technology Council; Update of Charting the Course for Ocean Science in the United States for the Next Decade: An Ocean Research Priorities Plan and Implementation Strategy (aka “Charting the Course”): Request for Public Input

ACTION: Request for Public Input to an update of the January 2007 Charting the Course

SUMMARY: In January 2007, Charting the Course for Ocean Science in the United States for the Next Decade: An Ocean Research Priorities Plan and Implementation Strategy (Charting the Course) was published. Charting the Course was based on input gathered from public and private sources over a period of several months, and it has provided a basis for coordinated ocean science and technology investments. In view of scientific advancements and recognition of new ocean management challenges, the Joint Subcommittee on Ocean Science and Technology (JSOST) is embarking upon an effort to update and refresh Charting the Course. This notice solicits public input to inform the drafting of an updated Charting the Course.

DATES: Public comments must be received by July 17, 2009.

ADDRESSES: Only electronic (e-mail) comments will be accepted. Comments should be sent to: comments@jsost.org.

Please note that all submissions may be posted without change to http://ocean.ceq.gov/about/jsost.html, including any personal information provided.

The public comment period will close on July 17, 2009 at 5:00 p.m. EDT. Any comments received after the close of the comment period will not be considered.

The full text of the January 2007 Charting the Course is posted at http://ocean.ceq.gov/about/sup_jsost_prioritiesplan.html).

FOR FURTHER INFORMATION CONTACT: For information regarding this Notice, please contact comments@jsost.org.

SUPPLEMENTARY INFORMATION: This national plan, released in January of 2007, is intended to present ocean research priorities that focus on the most compelling issues in key areas of interaction between society and the ocean. The goal of Charting the Course is to formulate priorities for ocean science and technology initiatives across the wide scope of societal interests and to define the fundamental principles for guiding actions and programs in support of the research priorities. This document also provides guidance on how the various ocean science sectors (government, academia, industry, and non-governmental entities) can and should be engaged, individually or through partnerships, to address the areas of greatest research priority and opportunity.

Charting the Course was developed through a collaborative effort involving academia, industry, non-governmental organizations, state and local governments, and anyone with an interest in ocean issues. The JSOST also developed a series of public and conference information sessions to provide updates on the development of the national ocean research priorities.

Charting the Course concisely gathers together and lays out in a single document the issues and priorities agreed to across the ocean sciences community. It has supported the creation of programs and projects where there were none, and it has guided priorities in federal agency budget submissions beginning in Fiscal Year 2008 and continuing through the latest budget submission, Fiscal Year 2010. The JSOST recognizes the need to harness momentum and magnify this progress.

In the two and a half years since Charting the Course was released, much has changed in the understanding of the ocean, its processes and its role in the Earth system as a whole. Much has also changed in our ability to access, explore, observe, and model the ocean and its communities. In light of these changes, and based on encouragement and input from the federal ocean community's external advisory body—the Ocean Research and Resources Advisory Panel (ORRAP)—and the Office of Science and Technology Policy, the JSOST is building a way forward to refresh Charting the Course and revisit the priorities it sets forth.

The first and most critical step in this way forward is reaching out to all interested parties for comments on how the current priorities should be revised for the refreshed Charting the Course. For example, are there issues that should be listed as priorities under the current six societal themes? Are there important areas that the original Charting the Course did not capture? As with developing Charting the Course, the JSOST considers community input and involvement in updating the national ocean research priorities a vital component in the process. JSOST is also working with ORRAP to additionally ensure proper community input and communication. All input received will be compiled, cataloged and thoroughly considered by the federal agency writing teams tasked with crafting a refreshed look at our nation's ocean research priorities.

The JSOST is requesting input in this community effort to revise, update and focus Charting the Course. Please provide complete contact information (name, affiliation, physical address, phone, e-mail) and note which of the following Charting the Course themes your comments address:

• Stewardship of our natural and cultural ocean resources

• Increasing resilience to natural hazards

• Enabling marine operations

• The ocean's role in climate

• Improving ecosystem health

• Enhancing human health

• Other

You may also elect to provide comments on the following Charting the Course cross-cutting areas:

• Observations and Infrastructure

• Ocean Education

• Enhancing Basic Understanding

The input obtained through this process will be fully considered as the JSOST drafts the updated Charting the Course.

M. David Hodge,
Operations Manager, OSTP.

[FR Doc. E9-14592 Filed 6-19-09; 8:45 am]

BILLING CODE 3170-W9-P